DEPARTMENT OF EDUCATION

[Docket No.: ED-2023-SCC-0035]

Agency Information Collection Activities; Submission to the Office of Management and Budget for Review and Approval; Comment Request; Migrant Education Program Regulations and Certificate of Eligibility

AGENCY: Office of Elementary and Secondary Education (OESE), Department of Education (ED).

ACTION: Notice.

SUMMARY: In accordance with the Paperwork Reduction Act (PRA) of 1995, the Department is proposing an extension without change of a currently approved information collection request (ICR).

DATES: Interested persons are invited to submit comments on or before July 6, 2023.

ADDRESSES: Written comments and recommendations for proposed information collection requests should be submitted within 30 days of publication of this notice. Click on this link www.reginfo.gov/public/do/PRAMain to access the site. Find this information collection request (ICR) by selecting “Department of Education” under “Currently Under Review,” then check the “Only Show ICR for Public Comment” checkbox. Reginfo.gov provides two links to view documents related to this information collection request. Information collection forms and instructions may be found by clicking on the “View Information Collection (IC) List” link. Supporting statements and other supporting documentation may be found by clicking on the “View Supporting Statement and Other Documents” link.

FOR FURTHER INFORMATION CONTACT: For specific questions related to collection activities, please contact Jessenia Guerra, (202) 453-7051.

SUPPLEMENTARY INFORMATION: The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Migrant Education Program Regulations and Certificate of Eligibility.

OMB Control Number: 1810-0662.

Type of Review: Extension without change of a currently approved ICR.

Respondents/Affected Public: Individuals or households; State, local, and Tribal governments.

Total Estimated Number of Annual Responses: 108,458.

Total Estimated Number of Annual Burden Hours: 301,570.

Abstract: The U.S. Department of Education (the Department) requests an extension with an adjustment to the currently approved information collection OMB No. 1810-0662. This collection of information is necessary to collect information under the Title I, Part C Migrant Education Program (MEP). Sections 1301-1309 of Part C of Title I of the Elementary and Secondary Education Act of 1965, as amended (ESEA), authorizes MEP. One can find regulations for MEP at 34 CFR 200.81-200.89. This information collection covers regulations with information collection requirements. These requirements pertain to information that State educational agencies (SEAs) must collect in order to properly administer the MEP.

Dated: June 1, 2023.
Kun Mullan,
PRA Coordinator, Strategic Collections and Clearance, Governance and Strategy Division, Office of Chief Data Officer, Office of Planning, Evaluation and Policy Development.

[FR Doc. 2023-12073 Filed 6-5-23; 8:45 am]

BILLING CODE 4000-01-P